Title 3—

The President

Proclamation 8732 of October 7, 2011

Fire Prevention Week, 2011

By the President of the United States of America

A Proclamation

Fires, whether caused by people or nature, can have devastating effects. Hundreds of thousands of fires happen in and around American homes every year, killing or injuring thousands of people and causing untold damage to families and communities. This week, we honor the selfless first responders who put themselves on the line to safeguard us all from fire, and we reaffirm the need for Americans to practice fire safety throughout the year.

This year’s Fire Prevention Week theme, “Protect Your Family from Fire,” encourages all Americans to promote fire prevention awareness both inside and outside the home. Everyone can take significant steps to mitigate the risk of fire, from installing and maintaining smoke alarms on every level of their home to practicing safe cooking behaviors. Families can help protect themselves by designing and practicing an escape plan that includes an outside meeting place with multiple exit paths out of each room. And, with the help of local safety officials, families can work together to protect their neighborhood with a Community Wildfire Protection Plan.

In 2011, Federal firefighting grants have been provided to 16 States to assist with wildfires that have caused destruction to families, farms, and businesses. Those living with the threat of wildfire can safeguard their houses by mowing dry grasses to two inches or less, and by clearing brush, leaves, green grass, and lumber from around their homes. By taking precautionary steps, and by discussing and practicing evacuation plans with our families, we can empower ourselves and our communities with the tools to prevent fires, and to save lives, property, and livestock when fires do occur.

This week, our Nation honors the dedicated firefighters and other first responders who do the hard, dangerous work of keeping our communities safe from fire. Many have laid down their lives to save our friends and neighbors, and their selfless sacrifice defines the nature of courage. As we pay tribute to their memories, let us resolve to maintain our vigilance and take proactive steps to stop fire emergencies before they begin.

NOW, THEREFORE, I, BARACK OBAMA, President of the United States of America, by virtue of the authority vested in me by the Constitution and the laws of the United States, do hereby proclaim October 9 through October 15, 2011, as Fire Prevention Week. On Sunday, October 16, 2011, in accordance with Public Law 107-51, the flag of the United States will be flown at half-staff on all Federal office buildings in honor of the National Fallen Firefighters Memorial Service. I call on all Americans to participate in this observance with appropriate programs and activities and by renewing their efforts to prevent fires and their tragic consequences.

IN WITNESS WHEREOF, I have hereunto set my hand this seventh day of October, in the year of our Lord two thousand eleven, and of the Independence of the United States of America the two hundred and thirty-sixth.

[FR Doc. 2011-26720

Filed 10-12-11; 11:15 am]

Billing code 3295-F2-P